DEPARTMENT OF COMMERCE

International Trade Administration

[C-570-023, C-560-829]

Certain Uncoated Paper From the People's Republic of China and Indonesia: Postponement of Preliminary Determinations in the Countervailing Duty Investigations

AGENCY: Enforcement and Compliance, International Trade Administration, Department of Commerce.

FOR FURTHER INFORMATION CONTACT: Joy Zhang (PRC) at (202) 482-1168, or Kate Johnson at (202) 482-4929 (Indonesia), AD/CVD Operations, Enforcement and Compliance, International Trade Administration, Department of Commerce, 14th Street and Constitution Avenue NW., Washington, DC 20230.

SUPPLEMENTARY INFORMATION:

Background

On February 10, 2015, the Department of Commerce (the Department) initiated the countervailing duty (CVD) investigations of certain uncoated paper from the People's Republic of China (PRC) and Indonesia.¹ Currently, the preliminary determinations are due no later than April 16, 2015.

¹ See Certain Uncoated Paper From the People's Republic of China and Indonesia: Initiation of Countervailing Duty Investigations, 80 FR 8598 (February 18, 2015).

Postponement of Due Date for the Preliminary Determinations

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the administering authority initiated the investigation.

On February 23, 2015, the petitioners ² in the investigation of certain uncoated paper from Indonesia timely requested that the deadline for the preliminary determination in that case be postponed in accordance with 19 CFR 351.205(e), citing the number and nature of subsidy programs under investigation. Similarly, on February 26, 2015, the petitioners in the investigation of certain uncoated paper from the PRC timely requested that the deadline for the preliminary determination in that case be postponed in accordance with 19 CFR 351.205(e), in order for the Department to have sufficient time to receive, analyze, and comment on the questionnaire responses of the mandatory respondents prior to the preliminary determination. Therefore, in accordance with section 703(c)(1)(A) of the Act, we are fully postponing the due date for the preliminary determinations to no later than 130 days after the day on which the investigations were initiated. However, as that date falls on a Saturday (i.e., June 20, 2015), the deadline for completion of the preliminary determinations is now June 22, 2015, the next business day.

² The petitioners are United Steel, Paper and Forestry, Rubber, Manufacturing, Energy, Allied Industrial and Service Workers International Union; Domtar Corporation; Finch Paper LLC; P.H. Glatfelter Company; and Packaging Corporation of America (see February 23 and February 26, 2015, letters on the record of these investigations).

This notice is issued and published pursuant to section 703(c)(2) of the Act and 19 CFR 351.205(f)(l).

Dated: March 4, 2015.
Paul Piquado,
Assistant Secretary for Enforcement and Compliance.

[FR Doc. 2015-05699 Filed 3-11-15; 8:45 am]

BILLING CODE 3510-DS-P